LIBRARY OF CONGRESS

Copyright Royalty Board

[Docket No. 22-CRB-0005-CD (2021)]

Distribution of Cable Royalty Funds

AGENCY: Copyright Royalty Board, Library of Congress.

ACTION: Notice requesting comments.

SUMMARY: The Copyright Royalty Judges solicit comments on a motion of Allocation Phase Parties for partial distribution of 2021 cable royalty funds.

DATES: Comments are due on or before April 26, 2024.

ADDRESSES: Interested claimants must submit timely comments using eCRB, the Copyright Royalty Board's online electronic filing application, at https://app.crb.gov/.

Instructions: All submissions must include a reference to the CRB and docket number 22-CRB-0005-CD (2021). All submissions will be posted without change to eCRB at https://app.crb.gov/ including any personal information provided.

Docket: For access to the docket to read submitted background documents or comments, go to eCRB, the Copyright Royalty Board's online electronic filing and case management system, at https://app.crb.gov/ and search for docket number 22-CRB-0005-CD (2021).

FOR FURTHER INFORMATION CONTACT: Anita Brown, CRB Program Specialist, at (202) 707-7658 or crb@loc.gov.

SUPPLEMENTARY INFORMATION: Each year cable systems must submit royalty payments to the Register of Copyrights as required by the statutory license detailed in section 111 of the Copyright Act for the retransmission to cable subscribers of over-the-air television and radio broadcast signals. See 17 U.S.C. 111(d). The Copyright Royalty Judges (Judges) oversee distribution of royalties to copyright owners whose works were included in a qualifying transmission and who file a timely claim for royalties.

Allocation of the royalties collected occurs in one of two ways. In the first instance, the Judges may authorize distribution in accordance with a negotiated agreement among all claiming parties. 17 U.S.C. 111(d)(4)(A), 801(b)(3)(A). If all claimants do not reach agreement with respect to the royalties, the Judges must conduct a proceeding to determine the distribution of any royalties that remain in controversy. 17 U.S.C. 111(d)(4)(B), 801(b)(3)(B). Alternatively, the Judges may, on motion of claimants and on notice to all interested parties, authorize a partial distribution of royalties, reserving on deposit sufficient funds to resolve identified disputes. 17 U.S.C. 111(d)(4)(C), 801(b)(3)(C).

On March 12, 2024, representatives of the Allocation Phase Parties claimant categories ¹ filed with the Judges a motion pursuant to section 801(b)(3)(C) of the Copyright Act requesting a partial distribution of 40% of the 2021 cable royalty funds on deposit. That statutory section requires that, before ruling on the motion, the Judges publish a notice in the Federal Register seeking responses to the motion for partial distribution to ascertain whether any claimant entitled to receive the subject royalties has a reasonable objection to the requested distribution. 17 U.S.C. 801(b)(3)(C).

¹ For the purpose of distribution of cable royalty funds, the Allocation Phase Parties are Program Suppliers, Joint Sports Claimants, Public Television Claimants, Commercial Television Claimants, Devotional Claimants, Canadian Claimants Group, National Public Radio, and the Music Claimants, who are comprised of the American Society of Composers, Authors and Publishers, SESAC Performing Rights, LLC, and Broadcast Music, Inc. The Judges have not determined, and do not by this notice determine, the universe of claimant categories for 2021 cable retransmission royalties.

Accordingly, this notice seeks comments from interested claimants on whether any reasonable objection exists that would preclude the distribution of the requested amounts of the 2021 cable royalty funds to the Allocation Phase Parties. Parties objecting to the proposed partial distribution must advise the Judges of the existence and extent of all objections by the end of the comment period. The Judges will not consider any objections with respect to the partial distribution that come to their attention after the close of the comment period.

Members of the public may read the motion by accessing the Copyright Royalty Board's electronic filing and case management system at https://app.crb.gov and searching for docket number 22-CRB-0005-CD (2021).

Dated: March 22, 2024.
David P. Shaw,
Chief Copyright Royalty Judge.

[FR Doc. 2024-06533 Filed 3-26-24; 8:45 am]

BILLING CODE 1410-72-P